DEPARTMENT OF DEFENSE

Office of the Secretary

Meeting of the Historical Advisory Committee

AGENCY: Department of Defense.

ACTION: Notice of open meeting.

SUMMARY: In accordance with the provisions of the Federal Advisory Committee Act, this notice announces a meeting of the Department of Defense Historical Advisory Committee. The Committee will discuss the report of the Department of the Army Subcommittee. The meeting will be open to the public.

DATES: Tuesday, April 26, 2011, at 10 a.m.

ADDRESSES: The meeting will be held on the 14th Floor, Suite 14038—Conference Room, 1777 North Kent Street, Arlington, VA 22209.

FOR FURTHER INFORMATION CONTACT: Ms. Carolyn Thorne at 703-588-7890 for information or upon arrival at the building in order to be admitted.

Dated: March 23, 2011.
Morgan F. Park,
Alternate OSD Federal Register Liaison Officer, Department of Defense.

[FR Doc. 2011-7699 Filed 3-31-11; 8:45 am]

BILLING CODE 5001-06-P